BUREAU OF CONSUMER FINANCIAL PROTECTION

[Docket No. CFPB-2020-0024]

Agency Information Collection Activities: Comment Request

AGENCY: Bureau of Consumer Financial Protection.

ACTION: Notice and request for comment.

SUMMARY: In accordance with the Paperwork Reduction Act of 1995 (PRA), the Bureau of Consumer Financial Protection (Bureau) is publishing this notice seeking comment on a generic Information Collection titled, “Debt Collection Validation Notice Qualitative Testing” under the Generic Information Collection Plan entitled, “Generic Information Collection Plan for the Development and Testing of Disclosures and Related Materials” prior to requesting Office of Management and Budget's (OMB's) approval of this collection.

DATES: Written comments are encouraged and must be received on or before July 29, 2020 to be assured of consideration.

ADDRESSES: You may submit comments, identified by the title of the information collection, OMB Control Number (see below), and docket number (see above), by any of the following methods:

• Electronic: Go to http://www.regulations.gov. Follow the instructions for submitting comments.

• Email: PRA_Comments@cfpb.gov. Include Docket No. CFPB-2020-0024 in the subject line of the message.

• Mail/Hand Delivery/Courier: Comment intake, Bureau of Consumer Financial Protection (Attention: PRA Office), 1700 G Street NW, Washington, DC 20552. Please note that due to circumstances associated with the COVID-19 pandemic, the Bureau discourages the submission of comments by mail, hand delivery, or courier. Please note that comments submitted after the comment period will not be accepted. In general, all comments received will become public records, including any personal information provided. Sensitive personal information, such as account numbers or Social Security numbers, should not be included.

FOR FURTHER INFORMATION CONTACT: Documentation prepared in support of this information collection request is available at www.regulations.gov. Requests for additional information should be directed to Darrin King, PRA Officer, at (202) 435-9575, or email: CFPB_PRA@cfpb.gov. If you require this document in an alternative electronic format, please contact CFPB_Accessibility@cfpb.gov. Please do not submit comments to these email boxes.

SUPPLEMENTARY INFORMATION:

Title of Collection: Debt Collection Validation Notice Qualitative Testing.

OMB Control Number: 3170-0022.

Type of Review: Request for approval of a generic information collection under an existing Generic Information Collection Plan.

Affected Public: Individuals and Households.

Estimated Number of Respondents: 400.

Estimated Total Annual Burden Hours: 78.

Abstract: The Bureau plans to conduct cognitive interviews to assess the effectiveness and validate the performance of the Bureau's model debt collection validation notices. The Bureau will collect information on how consumers locate and use information in the model notice, including:

(1) Whether the consumer can locate and use important information effectively, such as information about the debt, information about the consumer's rights, and information about how the consumer may respond if they so choose; and

(2) How consumers view and respond to paper and electronic versions of the model validation notice.

Request for Comments: The Bureau is publishing this notice and soliciting comments on: (a) Whether the collection of information is necessary for the proper performance of the functions of the Bureau, including whether the information will have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be submitted to OMB as part of its review of this request. All comments will become a matter of public record.

Dated: June 24, 2020.
Darrin King,
Paperwork Reduction Act Officer, Bureau of Consumer Financial Protection.

[FR Doc. 2020-13948 Filed 6-26-20; 8:45 am]

BILLING CODE 4810-AM-P